DEPARTMENT OF COMMERCE

National Oceanic and Atmospheric Administration

50 CFR Part 660

[I.D. 112205A]

Western Pacific Fishery Management Council; Public Meetings

AGENCY: National Marine Fisheries Service (NMFS), National Oceanic and Atmospheric Administration (NOAA), Commerce.

ACTION: Notice of public meeting and public hearings.

SUMMARY: The Western Pacific Fishery Management Council (Council) will hold its 130th meeting to consider and take action on fishery ecosystem plans for the Western Pacific Region. The Council will also hold public hearings throughout Hawaii the week prior to its 130th meeting, as well as during the 130th meeting.

DATES: The 130th Council meeting and the public hearings will be held December 20, 2005, and December 12-15, 2005, respectively. For specific dates, times and locations of the public hearings, and the agenda for the 130th Council meeting, see SUPPLEMENTARY INFORMATION.

ADDRESSES: The 130th Council meeting will be held at the Council's office, 1164 Bishop Street, Suite 1400, Honolulu, HI 96813. The 130th Council meeting telephone conference call-in-number is: (866)867-8289, passcode 1683776. For Guam and International Participants, the call-in-number is: (813)376-1442, passcode 1683776.

The public hearings will held in Hilo, HI; Kailua-Kona, HI; Lihue, HI; Kahului, HI; and Honolulu, HI. For specific dates, times and locations, see SUPPLEMENTARY INFORMATION.

FOR FURTHER INFORMATION CONTACT: Kitty M. Simonds, Executive Director; telephone: (808)522-8220; FAX: (808)522-8226.

SUPPLEMENTARY INFORMATION:

Background Information

The Western Pacific Fishery Management Council has recently initiated a shift towards ecosystem approaches to fisheries management by drafting place-based fishery ecosystem plans (FEPs)to amend and reorganize the existing species-based fishery management plans (FMPs). The draft FEPs include the: (a) American Samoa Archipelago FEP, (b) Hawaii Archipelago FEP, (c) Mariana Archipelago FEP, (d) Pacific Pelagic FEP, and e) Pacific Remote Island Areas FEP.

Recognizing that implementation of a successful ecosystem approach to fisheries management will require incremental steps as well as broad public and governmental agency collaboration, these FEPs lay the institutional framework on which further fisheries ecosystem management measures will be built. Pending final action by the Council and the approval of the FEPs by the Secretary of Commerce, the current FMP regulations will be reorganized and consolidated into place-based regulations specific to each FEP area however, no substantive changes to current regulations will occur at this reorganization stage.

In October and November 2005, public hearings on the draft FEPs were conducted throughout the Western Pacific Region in the following areas: Tutuila, AS; Saipan, CNMI; Tinian, CNMI; Rota, CNMI; Honolulu, HI; and Tumon Bay, GU. At the 129th Council meeting held November 8-11, 2005, in Tumon Bay, Guam, the Council recommended to tentatively adopt the draft FEPs and to consider final approval at the next Council meeting.

130th Council Meeting Agenda

Tuesday December 20, 2005, 12 noon Hawaii Standard Time

1. Introductions

2. Approval of Agenda

3. Western Pacific Fishery Ecosystem Plans

A. Final Action on FEP Objectives

B. Final Action on FEP Boundaries

C. Final Action FEP Management Unit Species designations

D. Final Action on Structure of Council Advisory Bodies

E. Final Action on Regional and International Coordination and Community Participation

4. Public Hearing

5. Council Discussion and Action

6. Update on Hawaii Bottomfish Overfishing

7. Other Business

Dates, Times, and Locations of Public Hearings

(1) Hilo, HI - Monday, December 12, 2005, from 6-9 p.m. at the University of Hawaii-Hilo Campus Center, 200 W. Kawili St., Hilo, HI 96720;

(2) Kailua-Kona, HI - Tuesday, December 13, 2005, from 6-9 p.m. at the King Kamehameha Hotel, 75-5660 Palani Rd., Kona, HI 96740;

(3) Kauai, HI - Wednesday, December 14, 2005, from 6-9 p.m. at Chiefess Kamakahelei Middle School, 4431 Nuhou St., Lihue, HI 96766.

(4) Maui, HI - Thursday, December 15, 2005, from 6-9 p.m. at the Maui Beach Hotel, 170 Kaahumanu Ave., Kahului, HI 96732;

(5) Oahu, HI - Tuesday, December 20, 2005, at 12 noon at the 130th Council meeting at the Council's office, 1164 Bishop St., Ste. 1400, Honolulu, HI 96813;

Although non-emergency issues not contained in this agenda may come before the Council for discussion, those issues may not be the subject of formal Council action during its 130th meeting. Council action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808)522-8220 (voice) or (808)522-8226 (fax), at least 5 days prior to the meeting date.

Authority: 16 U.S.C. 1801 et seq.

Dated: November 22, 2005.
Alan D. Risenhoover,
Acting Director, Office of Sustainable Fisheries, National Marine Fisheries Service.

[FR Doc. 05-23364 Filed 11-25-05; 8:45 am]

BILLING CODE 3510-22-S